DEPARTMENT OF THE INTERIOR

Bureau of Land Management

[LLAZ910000.L13400000.DT0000.LXSS058A0000]

Notice of Availability of the Final Environmental Impact Statement for the Restoration Design Energy Project and Proposed Resource Management Plan Amendments, Arizona; Correction

AGENCY: Bureau of Land Management, Interior.

ACTION: Correction.

SUMMARY: This notice corrects acreages and information referenced in the SUPPLEMENTARY INFORMATION section of a notice that published in the Federal Register on Friday, October 26, 2012 (77 FR 65401). The correct acreages were presented and analyzed in the final Environmental Impact Statement.

On page 65402, column 1, line 59 of the notice, which reads, “approximately 298,400 acres of,” is hereby corrected to read, “approximately 266,100 acres of.”

On page 65402, column 2, line 7 of the notice, which reads, “approximately 213,500 acres of BLM-,” is hereby corrected to read, “approximately 185,700 acres of BLM-.”

On page 65402, column 2, line 11 of the notice, which reads, “by identifying approximately 106,800,” is hereby corrected to read, “by identifying approximately 82,500.”

On page 65402, column 2, line 17 of the notice, which reads, “for 298,400 acres of potential REDAs to,” is hereby corrected to read, “for 266,100 acres of potential REDAs to.”

On page 65402, column 2, line 23 of the notice, which reads, “adjustments by identifying about 25,500,” is hereby corrected to read, “adjustments by identifying about 21,700.”

On page 65402, column 2, line 32, which reads, “Alternative 6 identifies about 222,800,” is hereby corrected to read, “Alternative 6 identifies about 192,100.”

On page 65402, column 2, line 59 of the notice, which reads, “Alternative 6, with 222,800 acres of,” is hereby corrected to read, “Alternative 6, with 192,100 acres of.”

On page 65403, column 1, line 17 of the notice, which reads, “defining the REDAs and general,” is hereby corrected to read, “defining the REDAs and the SEZ and general.”

Raymond Suazo,
State Director.

[FR Doc. 2012-27513 Filed 11-9-12; 8:45 am]

BILLING CODE 4310-32-P